DEPARTMENT OF COMMERCE

Census Bureau

Quarterly Survey of the Finances of Public-Employee Retirement Systems

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 7, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Ellen Thompson, Chief, Employment Branch, Governments Division, U.S. Census Bureau, 4700 Silver Hill Road, Stop 6800, Washington, DC 20233-6800, (301-763-1531) (or via the Internet at ellen.ann.thompson@census.gov).

SUPPLEMENTARY INFORMATION

I. Abstract

The Census Bureau plans to request an extension for the quarterly retirement survey. The quarterly survey was initiated by the Census Bureau in 1968 at the request of both the Council of Economic Advisers and the Federal Reserve Board. It gathers data on the assets of the 100 largest state and local government public-employee retirement systems. These systems hold over $2 trillion in assets, which represent approximately 90 percent of all state and local government public-employee retirement system assets.

These important data are used by the Federal Reserve Board to track the public sector portion of the flow of funds accounts. The Bureau of Economic Analysis uses the data on corporate stock holdings to estimate dividends received by state and local government public-employee retirement systems. These estimates, in turn are used as a component in developing the national income and product accounts.

II. Method of Collection

Canvass methodology consists of a mail out/mail back questionnaire. Responses are screened manually, then put into an electronic format. No statistical methods are used to calculate the data.

Respondents may choose to report their data over our Internet site. In addition to reporting current quarter data on the Internet, respondents may report for the first time for the previous two quarters or submit revisions to their previously submitted data if needed.

In those instances when we are not able to obtain a response, estimates are made for nonrespondents based on historical data for that same system.

III. Data

OMB Number: 0607-0143.

Form Number: F-10.

Type of Review: Regular.

Affected Public: State and local government retirement systems.

Estimated Number of Respondents: 100.

Estimated Time Per Response: 45 minutes.

Estimated Total Annual Burden Hours: 300.

Estimated Total Annual Cost: $5,934.

Note.—Based upon the average hourly pay of $19.78 for full-time employment for the financial administration function for state government employees in the 2004 Survey of State and Local Government Employment.

Respondent's Obligation: Voluntary.

Legal Authority: Title 13 U.S.C., Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 30, 2005.
Madeleine Clayton,
Management Analyst, Office of the Chief Information Officer.

[FR Doc. 05-17574 Filed 9-2-05; 8:45 am]

BILLING CODE 3510-07-P